FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than November 29, 2010.

A. Federal Reserve Bank of Minneapolis (Jacqueline G. King, Community Affairs Officer) 90 Hennepin Avenue, Minneapolis, Minnesota 55480-0291:

1. Bigfork Bancshares, Inc., Bigfork, Minnesota; to merge with Kelliher Bancshares Inc., and thereby indirectly acquire Citizens State Bank of Kelliher, both of Kelliher, Minnesota.

B. Federal Reserve Bank of Dallas (E. Ann Worthy, Vice President) 2200 North Pearl Street, Dallas, Texas 75201-2272:

1. Veritex Holdings, Inc., Dallas, Texas; to acquire 100 percent of the voting shares of Fidelity Resources Company, and thereby indirectly acquire voting shares of Fidelity Bank, Plano, Texas.

2. WCM Holdings, Inc., and WCM-Parkway, Ltd., both of Dallas, Texas; to acquire at least 5 percent of the voting shares of Veritex Holdings, Inc., and thereby indirectly acquire voting shares of Professional Bank, NA, both of Dallas, Texas.

C. Federal Reserve Bank of San Francisco (Kenneth Binning, Vice President, Applications and Enforcement) 101 Market Street, San Francisco, California 94105-1579:

1. SKBHC Holdings, LLC, and SKBHC Hawks Nest Acquisition Corp., both of Corona del Mar, California; to acquire 100 percent of the voting shares of AmericanWest Bank, Spokane, Washington.

Board of Governors of the Federal Reserve System, November 1, 2010.
Robert deV. Frierson,
Deputy Secretary of the Board.

[FR Doc. 2010-27867 Filed 11-3-10; 8:45 am]

BILLING CODE 6210-01-P